ENVIRONMENTAL PROTECTION AGENCY

40 CFR Part 745

[EPA-HQ-OPPT-2016-0126; FRL-9950-27-OA]

Section 610 Review of the 2008 Lead; Renovation, Repair, and Painting Program (RRP); Extension of Comment Period

AGENCY: Environmental Protection Agency (EPA).

ACTION: Extension of public comment period.

SUMMARY: On June 9, 2016 the Environmental Protection Agency (EPA) published a request for comments on a Regulatory Flexibility Act section 610 review titled, Section 610 Review of Lead-Based Paint Activities; Training and Certification for Renovation and Remodeling Section 402(C)(3) (Section 610 Review). As initially published in the Federal Register, written comments were to be submitted to the EPA on or before August 8, 2016 (a 60-day public comment period). Since publication, the EPA has received a request for additional time to submit comments. Therefore, the EPA is extending the public comment period for 30 days until September 7, 2016.

DATES: The public comment period for the review published June 9, 2016 (81 FR 37373) is being extended for 30 days to September 7, 2016 in order to provide the public additional time to submit comments and supporting information.

ADDRESSES: Comments: Submit your comments, identified by Docket ID No. EPA-HQ-OPPT-2016-0126, by one of the following methods:

• http://www.regulations.gov: Follow the on-line instructions for submitting comments.

• Email: oppt.ncic@epa.gov, Attention Docket ID No. EPA-HQ-OPPT-2016-0126.

• Fax: (202) 566-9744.

• U.S. Mail: Environmental Protection Agency, EPA Docket Center, Mailcode: 28221T, Attention Docket ID No. EPA-HQ-OPPT-2016-0126, 1200 Pennsylvania Ave. NW., Washington, DC 20460.

• Hand Delivery: EPA Docket Center, EPA West, Room 3334, 1301 Constitution Avenue NW., Washington, DC, Attention Docket ID No. EPA-HQ-OPPT-2016-0126. Such deliveries are accepted only during the Docket Center's normal hours of operation, and special arrangements should be made for deliveries of boxed information.

Instructions: Direct your comments to Docket ID No. EPA-HQ-OPPT-2016-0126. The EPA's policy is that all comments received will be included in the public docket without change and could be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means that the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment because of technical difficulties and cannot contact you for clarification, the EPA might not be able to consider your comment. Electronic files should avoid the use of special characters, any form of encryption, and be free of any defects or viruses. For additional information about the EPA's public docket visit the EPA Docket Center homepage at http://www.epa.gov/epahome/dockets.htm. For additional instructions on submitting comments, go to the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at EPA/DC, EPA West, Room 3334, 1301 Constitution Ave. NW., Washington, DC 20004. The Public Reading Room is open from 8:30 a.m. to 4:30 p.m., Monday through Friday, excluding federal holidays. The telephone number for the Public Reading Room is (202) 566-1744.

FOR FURTHER INFORMATION CONTACT: For additional information contact,

Jonathan Shafer, Environmental Protection Agency, Office of Chemical Safety and Pollution Prevention, 7404T, 1200 Pennsylvania Avenue NW., Washington, DC 20460, Phone: 202 564-0789, Email: shafer.jonathan@epa.gov.

Michelle Price, Environmental Protection Agency, Office of Chemical Safety and Pollution Prevention, 7404T, 1200 Pennsylvania Avenue NW., Washington, DC 20460, Phone: 202 566-0744, Email: price.michelle@epa.gov.

SUPPLEMENTARY INFORMATION:

I. General Information

Section 610 of the Regulatory Flexibility Act requires that an agency review, within 10 years of promulgation, each rule that has or will have a significant economic impact on a substantial number of small entities (SISNOSE). The EPA undertakes section 610 reviews to decide whether the agency should continue a rule unchanged, amend it, or withdraw it. We encourage small entities to provide comments on the need to change these rules, and in particular, how the rules could be made clearer, more effective, or if there is need to remove conflicting or overlapping requirements with other Federal or State regulations.

The EPA has exercised its discretion to include changes made to the 2008 RRP rule as well as solicit comments on lead-test kits in this review.

II. Extension of Comment Period for the Section 610 Review of the 2008 RRP Rule

The EPA is extending the deadline for submitting comments on the section 610 review of the RRP Rule to September 7, 2016. The original deadline for comments, based on a 60-day comment period, was August 8, 2016. The EPA's decision responds to a request to extend the comment deadline. The EPA believes that this 30-day extension will assist in providing an adequate amount of additional time for the public to review the action and to provide written comments.

Dated: July 27, 2016.
William Nickerson,
Acting Director, Office of Regulatory Policy and Management.

[FR Doc. 2016-18520 Filed 8-5-16; 8:45 am]

BILLING CODE 6560-50-P